SMALL BUSINESS ADMINISTRATION

13 CFR Ch. I

Semiannual Regulatory Agenda

AGENCY: U.S. Small Business Administration (SBA).

ACTION: Semiannual regulatory agenda.

SUMMARY: This Regulatory Agenda is a semiannual summary of all current and projected rulemakings and completed actions of the Small Business Administration (SBA). SBA expects that this summary information will enable the public to be more aware of, and effectively participate in, SBA's regulatory activity. SBA invites the public to submit comments on any aspect of this Agenda.

FOR FURTHER INFORMATION CONTACT:

General

Please direct general comments or inquiries to Imelda A. Kish, Law Librarian, U.S. Small Business Administration, 409 Third Street SW., Washington, DC 20416, (202) 205-6849, imelda.kish@sba.gov.

Specific

Please direct specific comments and inquiries on individual regulatory activities identified in this Agenda to the individual listed in the summary of the regulation as the point of contact for that regulation.

SUPPLEMENTARY INFORMATION: SBA provides this notice under the requirements of the Regulatory Flexibility Act, 5 U.S.C. sections 601 to 612 and Executive Order 12866 “Regulatory Planning and Review,” which require each agency to publish a semiannual agenda of regulations. The Regulatory Agenda is a summary of all current and projected Agency rulemakings, as well as actions completed since the publication of the last Regulatory Agenda. SBA's last Semiannual Regulatory Agenda was published on January 8, 2013, at 78 FR 1636. The Semiannual Agenda of the SBA conforms to the Unified Agenda format developed by the Regulatory Information Service Center.

Beginning with the fall 2007 edition, the Unified Agenda has been disseminated via the Internet. The complete Unified Agenda will be available online at www.reginfo.gov in a format that greatly enhances a user's ability to obtain information about the rules in SBA's Agenda.

The Regulatory Flexibility Act requires Federal agencies to publish their regulatory flexibility agendas in the Federal Register. Therefore, SBA's printed agenda entries include regulatory actions that are in the SBA's regulatory flexibility agenda. A regulatory flexibility agenda contains, among other things, “a brief description of the subject area of any rule . . . which is likely to have a significant economic impact on a substantial number of small entities.” Printing of these entries is limited to fields that contain information required by the Regulatory Flexibility Act's Agenda requirements. Additional information on these entries is available in the Unified Agenda published on the Internet.

Dated: April 25, 2013.
Karen G. Mills,
Administrator.

Small Business Administration—Proposed Rule Stage
Sequence No. | Title | Regulation Identifier No.
247 | Small Business Development Centers (SBDC) Program Revisions | 3245-AE05
248 | SBA Express Loan Program; Export Express Program | 3245-AF85
249 | Implementation of Small Business Disaster Response and Loan Improvement Act of 2008: Expedited Disaster Assistance Program | 3245-AF88
250 | Implementation of Small Business Disaster Response and Loan Improvement Act of 2008: Private Loan Disaster Program | 3245-AF99
251 | Women's Business Center Program | 3245-AG02
252 | Small Business Jobs Act: Small Business Size Standards; Alternative Size Standard for 7(a) and 504 Business Loan Programs | 3245-AG16
253 | Small Business Mentor-Protege Programs | 3245-AG24
254 | Small Business HUBZone Program | 3245-AG38
255 | Agent Revocation and Suspension Procedures | 3245-AG40
256 | Small Business Size Standards: Employee Based Size Standards for Wholesale Trade and Retail Trade | 3245-AG49
257 | Small Business Size Standards for Manufacturing | 3245-AG50
258 | Small Business Size Standards for Other Industries With Employee-Based Size Standards Not Part of Manufacturing Wholesale Trade or Retail Trade | 3245-AG51

Small Business Administration—Final Rule Stage
Sequence No. | Title | Regulation Identifier No.
259 | Lender Oversight Program | 3245-AE14
260 | Small Business Technology Transfer (STTR) Policy Directive | 3245-AF45
261 | Small Business Innovation Research (SBIR) Program Policy Directive | 3245-AF84
262 | 504 and 7(a) Loan Programs Updates | 3245-AG04
263 | Acquisition Process: Task and Delivery Order Contracts, Bundling, Consolidation | 3245-AG20
264 | Small Business Subcontracting | 3245-AG22
265 | Small Business Size and Status Integrity | 3245-AG23
266 | Small Business Size Standards for Utilities | 3245-AG25
267 | Small Business Size Standards: Construction | 3245-AG37

Small Business Administration—Completed Actions
Sequence No. | Title | Regulation Identifier No.
268 | Small Business Size Standards: Arts, Entertainment, and Recreation | 3245-AG36
269 | Small Business Size Standards: Agriculture, Forestry, Fishing, and Hunting | 3245-AG43
270 | Small Business Size Standards: Support Activities for Mining | 3245-AG44
271 | Small Business Size Standards: Finance and Insurance; Management of Companies and Enterprises | 3245-AG45
272 | Small Business Size Regulations, Small Business Innovation Research (SBIR) Program and Small Business Technology Transfer (STTR) Program | 3245-AG46

SMALL BUSINESS ADMINISTRATION (SBA)

Proposed Rule Stage

247. Small Business Development Centers (SBDC) Program Revisions

Legal Authority: 15 U.S.C. 634(b)(6); 15 U.S.C. 648

Abstract: This rule would update Small Business Development Center (SBDC) program regulations by amending among other things: (1) Procedures for approving and funding of SBDCs; (2) approval procedures for travel outside the continental U.S. and U.S. territories; (3) procedures and requirements regarding findings and disputes resulting from financial exams, programmatic reviews, accreditation reviews, and other SBA oversight activities; (4) requirements for new and renewal applications for SBDC awards, including the requirements for electronic submission through the approved electronic Government submission facility; and (5) provisions regarding the collection and use of individual SBDC client data.

Timetable:

Action | Date | FR Cite
NPRM | 10/00/13 |

Regulatory Flexibility Analysis Required: Yes.

Agency Contact: John C. Lyford, Deputy Associate Administrator, Office of Small Development Centers, Small Business Administration, 409 Third Street SW., Washington, DC 20416, Phone: 202 205-7159, Fax: 202 481-2613, Email: chancy.lyford@sba.gov.

RIN: 3245-AE05

248. SBA Express Loan Program; Export Express Program

Legal Authority: 15 U.S.C. 636(a)(31) and (35)

Abstract: SBA plans to issue regulations for the SBA Express loan program codified in section 7(a)(31) of the Small Business Act. The SBA Express loan program reduces the number of Government mandated forms and procedures, streamlines the processing and reduces the cost of smaller, less complex SBA loans. Particular features of the SBA Express loan program include: (1) SBA Express loans carry a maximum SBA guaranty of 50 percent; (2) a response to an SBA Express loan application will be given within 36 hours; (3) lenders and borrowers can negotiate the interest rate, which may not exceed SBA maximums; and (4) qualified lenders may be granted authorization to make eligibility determinations. SBA also plans to issue regulations for the Export Express Program codified at 7(a)(35) of the Small Business Act. The Export Express Program, made permanent by the Small Business Jobs Act, makes guaranteed financing available for export development activities.

Timetable:

Action | Date | FR Cite
NPRM | 10/00/13 |

Regulatory Flexibility Analysis Required: Yes.

Agency Contact: Michael A. Simmons, Acting Director, Office of Financial Assistance, Small Business Administration, 409 Third Street SW., Washington, DC 20416, Phone: 202 205-7562, Fax: 202 481-0248, Email: michael.simmons@sba.gov.

RIN: 3245-AF85

249. Implementation of Small Business Disaster Response and Loan Improvement Act of 2008: Expedited Disaster Assistance Program

Legal Authority: 15 U.S.C. 636(j)

Abstract: This proposed rule would establish and implement an expedited disaster assistance business loan program under which the SBA will guarantee short-term loans made by private lenders to eligible small businesses located in a catastrophic disaster area. The maximum loan amount is $150,000, and SBA will guarantee timely payment of principal and interest to the lender. The maximum loan term will be 180 days, and the interest rate will be limited to 300 basis points over the Federal funds rate.

Timetable:

Action | Date | FR Cite
NPRM | 10/00/13 |

Regulatory Flexibility Analysis Required: Yes.

Agency Contact: Michael A. Simmons, Acting Director, Office of Financial Assistance, Small Business Administration, 409 Third Street SW., Washington, DC 20416, Phone: 202 205-7562, Fax: 202 481-0248, Email: michael.simmons@sba.gov.

RIN: 3245-AF88

250. Implementation of Small Business Disaster Response and Loan Improvement Act of 2008: Private Loan Disaster Program

Legal Authority: 15 U.S.C. 636

Abstract: This proposed rule would establish and implement a private disaster loan program under which SBA will guarantee loans made by qualified lenders to eligible small businesses and homeowners located in a catastrophic disaster area. Private disaster loans made under this programs will have the same terms and conditions as SBA's direct disaster loans. In addition, SBA will guarantee timely payment of principal and interest to the lender. SBA may guarantee up to 85 percent of any loan under this program and the maximum loan amount is $2 million.

Timetable:

Action | Date | FR Cite
NPRM | 10/00/13 |

Regulatory Flexibility Analysis Required: Yes.

Agency Contact: Michael A. Simmons, Acting Director, Office of Financial Assistance, Small Business Administration, 409 Third Street SW., Washington, DC 20416, Phone: 202 205-7562, Fax: 202 481-0248, Email: michael.simmons@sba.gov.

RIN: 3245-AF99

251. Women's Business Center Program

Legal Authority: 15 U.S.C. 631; 15 U.S.C. 656

Abstract: SBA's Office of Women's Business Ownership (OWBO) oversees a network of SBA-funded Women's Business Centers (WBCs) throughout the United States and its territories. WBCs provide management and technical assistance to small business concerns both nascent and established, with a focus on such businesses that are owned and controlled by women, or on women planning to start a business, especially women who are economically or socially disadvantaged. The training and counseling provided by the WBCs encompass a comprehensive array of topics, such as finance, management and marketing in various languages. This rule would propose to codify the requirements and procedures that govern the delivery, funding and evaluation of the management and technical assistance provided under the WBC Program. The rule would address, among other things, the eligibility criteria for selection as a WBC, use of Federal funds, standards for effectively carrying out program duties and responsibilities, and the requirements for reporting on financial and programmatic performance.

Timetable:

Action | Date | FR Cite
NPRM | 09/00/13 |

Regulatory Flexibility Analysis Required: Yes.

Agency Contact: Bruce D. Purdy, Acting Assistant Administrator, Office of Women's Business Ownership, Small Business Administration, Phone: 202 205-7532, Email: bruce.purdy@sba.gov.

RIN: 3245-AG02

252. Small Business Jobs Act: Small Business Size Standards; Alternative Size Standard for 7(a) and 504 Business Loan Programs

Legal Authority: Pub. L. 111-240, sec 1116

Abstract: SBA will amend its size eligibility criteria for Business Loans and for development company loans under title V of the Small Business Investment Act (504). For the SBA 7(a) Business Loan Program, the amendments will provide an alternative size standard for loan applicants that do not meet the small business size standards for their industries. For the 504 Program, the amendments will increase the current alternative standard for applicants for 504 loans. The Small Business Jobs Act of 2010 (Jobs Act) established alternative size standards that apply to both of these programs until the SBA's Administrator establishes other alternative size standards. This interim final rule will be effective when published because the alternative size standards that the Jobs Act established were effective September 27, 2010, the date of its enactment. These alternative size standards do not affect other Federal Government programs, including Federal procurement.

Timetable:

Action | Date | FR Cite
NPRM | 10/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG16

253. Small Business Mentor-Protege Programs

Legal Authority: Pub. L. 111-240; sec 1347; 15 U.S.C. 657r

Abstract: SBA currently has a mentor-protege program for the 8(a) Business Development Program that is intended to enhance the capabilities of the protege and to improve its ability to successfully compete for Federal contracts. The Small Business Jobs Act authorized SBA to use this model to establish similar mentor-protege programs for the Service Disabled Veteran-Owned, HUBZone, and Women-Owned Small Federal Contract Business Programs and the National Defense Authorization Act for Fiscal Year 2013 authorized this for all small businesses. This authority is consistent with recommendations issued by an interagency task force created by President Obama on Federal Contracting Opportunities for Small Businesses. During the next 12 months, SBA will make it a priority to issue regulations establishing the three newly authorized mentor-protege programs and set out the standards for participating as a mentor or protege in each. As is the case with the current mentor-protege program, the various forms of assistance that a mentor will be expected to provide to a protege include technical and/or management assistance; financial assistance in the form of equity investment and/or loans; subcontracts; and/or assistance in performing prime contracts with the Government in the form of joint venture arrangements.

Timetable:

Action | Date | FR Cite
NPRM | 10/00/13

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG24

254. Small Business HUBZone Program

Legal Authority: 15 U.S.C. 657a

Abstract: SBA has been reviewing its processes and procedures for implementing the HUBZone program and has determined that several of the regulations governing the program should be amended in order to resolve certain issues that have arisen. As a result, the proposed rule would constitute a comprehensive revision of part 126 of SBA's regulations to clarify current HUBZone Program regulations, and implement various new procedures. The amendments will make it easier for participants to comply with the program requirements and enable them to maximize the benefits afforded by participation. In developing this proposed rule, SBA will focus on the principles of Executive Order 13563 to determine whether portions of regulations should be modified, streamlined, expanded or repealed to make the HUBZone program more effective and/or less burdensome on small business concerns. At the same time, SBA will maintain a framework that helps identify and reduce waste, fraud, and abuse in the program.

Timetable:

Action | Date | FR Cite
NPRM | 10/00/13

Regulatory Flexibility Analysis Required: Yes.

Agency Contact: Mariana Pardo, Director, Office of Hubzone, Small Business Administration, 409 3rd Street SW., Washington, DC 20416, Phone: 202 205-2985, Email: mariana.pardo@sba.gov.

RIN: 3245-AG38

255. Agent Revocation and Suspension Procedures

Legal Authority: Not Yet Determined

Abstract: These changes to 13 CFR sections 103, 134, and 2 CFR 2700 lay out a procedural process for SBA's revocation of the privilege of agents to conduct business with the Agency. Included in this process are procedure for proposed revocation, the opportunity to object to the proposed revocation, the revocation decision, as well as requests for reconsideration. These procedures also provide for suspension of the privilege to conduct business with the Agency pending a revocation action. In addition, these changes remove Office of Hearings and Appeals review of suspension, revocation, and debarment actions by SBA.

Timetable:

Action | Date | FR Cite
NPRM | 10/00/13

Regulatory Flexibility Analysis Required: Yes.

Agency Contact: Christopher J. McClintock, Trial Attorney, Small Business Administration, 409 3rd Street SW., Washington, DC 20416, Phone: 202 205-7715, Email: christoper.mcclintock@sba.gov

RIN: 3245-AG40

256. Small Business Size Standards: Employee Based Size Standards for Wholesale Trade and Retail Trade

Legal Authority: 15 U.S.C. 632(a)

Abstract: SBA is conducting a comprehensive review of all small business size standards to determine whether the existing size standards should be retained or revised. As part of this effort, SBA has evaluated each industry in North American Industry Classification System (NAICS) Sector 42, Wholesale Trade, and Sector 44-45, Retail Trade and revised these employee-based size standards for certain industries in those sectors. This is one of the rules that will examine industries grouped by an NAICS Sector. SBA has applied its “Size Standards Methodology,” which is available on its Web site at http://www.sba.gov/size, to this purposed rule.

NOTE: The title for this rule has been changed since the rule was first reported in the Regulatory Agenda on January 8, 2013, from “Small Business Size Standards for Wholesale Trade” to “Small Business Size Standards: Employee Based Size Standards for Wholesale Trade and Retail Trade.” The title was changed to make it clear that the rule also addresses industries with employee based size standards in Retail Trade.

Timetable:

Action | Date | FR Cite
NPRM | 10/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov

RIN: 3245-AG49

257. Small Business Size Standards for Manufacturing

Legal Authority: 15 U.S.C. 632(a)

Abstract: SBA is conducting a comprehensive review of all small business size standards to determine whether the existing size standards should be retained or revised. As part of this effort, SBA has evaluated each industry in North American Industry Classification System (NAICS) Sector 31-33, Manufacturing, and revised these employee-based size standards for certain industries in the sector. This is one of the rules that will examine industries grouped by an NAICS Sector. SBA has applied its “Size Standards Methodology,” which is available on its Web site at http://www.sba.gov/size, to this proposed rule.

Timetable:

Action | Date | FR Cite
NPRM | 10/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG50

258. Small Business Size Standards for Other Industries With Employee-Based Size Standards Not Part of Manufacturing Wholesale Trade or Retail Trade

Legal Authority: 15 U.S.C. 632(a)

Abstract: SBA is conducting a comprehensive review of all small business size standards to determine whether the existing size standards should be retained or revised. As part of this effort, SBA has evaluated each industry that has an employee-based standard but is not part of North American Industry Classification System (NAICS) Sector 31-33, Manufacturing, Sector 42, Wholesale Trade, or Sector 44-45, Retail Trade and revised size standards for some of those industries. This is one of the rules that will examine industries grouped by an NAICS Sector. SBA has applied its “Size Standards Methodology,” which is available on its Web site at http://www.sba.gov/size, to this proposed rule.

Please Note: The title for this rule has been changed since it was first announced in the Regulatory Agenda on January 8, 2013, to add the words “or Retail Trade” at the end of the previous title. This change makes it clear that industries in the retail trade with employee-based size standards are also not addressed in the rule.

Timetable:

Action | Date | FR Cite
NPRM | 10/00/13

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG51

SMALL BUSINESS ADMINISTRATION (SBA)

Final Rule Stage

259. Lender Oversight Program

Legal Authority: 15 U.S.C. 634(b)(6),(b)(7),(b)(14),(h) and note; 687(f), 697e(c)(8), and 650

Abstract: This rule implements the Small Business Administration's (SBA) statutory authority under the Small Business Act to regulate Small Business Lending Companies (SBLCs) and non-federally regulated lenders (NFRLs). It also conforms SBA rules for the section 7(a) Business Loan Program and the Certified Development Company (CDC) Program.

In particular, this rule: (1) Defines SBLCs and NFRLs; (2) clarifies SBA's authority to regulate SBLCs and NFRLs; (3) authorizes SBA to set certain minimum capital standards for SBLCs, to issue cease and desist orders, and revoke or suspend lending authority of SBLCs and NFRLs; (4) establishes the Bureau of Premier Certified Lender Program Oversight in the Office of Credit Risk Management; (5) transfers existing SBA enforcement authority over CDCs from the Office of Financial Assistance to the appropriate official in the Office of Capital Access; and (6) defines SBA's oversight and enforcement authorities relative to all SBA lenders participating in the 7(a) and CDC programs and intermediaries in the Microloan program.

Timetable:

Action | Date | FR Cite
NPRM | 10/31/07 | 72 FR 61752
NPRM Comment Period Extended | 12/20/07 | 72 FR 72264
NPRM Comment Period End | 02/29/08
Interim Final Rule | 12/11/08 | 73 FR 75498
Interim Final Rule Comment Period End | 03/11/09
Interim Final Rule Effective | 01/12/09
Final Rule | 12/00/13

Regulatory Flexibility Analysis Required: Yes.

Agency Contact: Brent Ciurlino, Director, Office of Credit Risk Management, Small Business Administration, 409 3rd Street SW., Washington, DC 20416, Phone: 202 205-6538, Email: brent.ciurlino@sba.gov.

RIN: 3245-AE14

260. Small Business Technology Transfer (STTR) Policy Directive

Legal Authority: 15 U.S.C. 638(p); Pub. L. 112-81, sec 5001, et seq.

Abstract: The amendments to the Small Business Technology Transfer (STTR) Policy Directive cover, in general: extension of the program through 2017; increase in percentage of extramural research and development budget reserved for program; annual adjustment of award guidelines for inflation; authority for SBIR awardees to receive STTR awards and vice versa; prevention of duplicate awards; requirements for agencies to allow business concerns owned by multiple venture capital operating companies, hedge funds or private equity firms to participate in the program; authority for small businesses to contract with Federal laboratory and restrictions on advanced payment to laboratories; technical assistance amendments; commercialization readiness and commercialization readiness pilot for civilian agencies; additional annual report and data collection requirements; and funding for administration and oversight of programs.

Timetable:

Action | Date | FR Cite
Notice | 08/06/12 | 77 FR 46855
Notice Effective | 08/06/12 | 77 FR 46855
Comment Period End | 10/05/12
Final Action | 08/00/13

Regulatory Flexibility Analysis Required: Yes.

Agency Contact: Edsel M. Brown Jr., Assistant Director, Office of Innovation, Small Business Administration, 409 Third Street SW., Washington, DC 20416, Phone: 202 205-6450, Email: edsel.brown@sba.gov.

RIN: 3245-AF45

261. Small Business Innovation Research (SBIR) Program Policy Directive

Legal Authority: 15 U.S.C. 638(j); Pub. L. 112-81, sec 5001, et seq.

Abstract: The amendments to the Small Business Innovation Research Policy Directive cover, in general: extension of the program through 2017; increase in percentage of extramural research and development budget reserved for program; annual adjustment of award guidelines for inflation; authority for SBIR awardees to receive STTR awards and vice versa; prevention of duplicate awards; requirements for agencies to allow business concerns owned by multiple venture capital operating companies, hedge funds or private equity firms to participate in the program; authority for small businesses to contract with Federal laboratory and restrictions on advanced payment to laboratories; technical assistance amendments; commercialization readiness and commercialization readiness pilot for civilian agencies; additional annual report and data collection requirements; and funding for administration and oversight of programs.

Timetable:

Action | Date | FR Cite
Notice | 08/06/12 | 77 FR 46806
Notice Effective | 08/06/12 | 77 FR 46806
Comment Period End | 10/05/12
Final Action | 08/00/13

Regulatory Flexibility Analysis Required: Yes.

Agency Contact: Edsel M. Brown Jr., Assistant Director, Office of Innovation, Small Business Administration, 409 Third Street SW., Washington, DC 20416, Phone: 202 205-6450, Email: edsel.brown@sba.gov.

RIN: 3245-AF84

262. 504 and 7(a) Loan Programs Updates

Legal Authority: 15 U.S.C. 695 et seq., 15 U.S.C. 636

Abstract: The 7(a) Loan Program and 504 Loan Program are SBA's two primary business loan programs authorized under the Small Business Act and the Small Business Investment Act of 1958, respectively. The 7(a) Loan Program's main purpose is to help eligible small businesses obtain credit when they cannot obtain “credit elsewhere.” This program is also an important engine for job creation. On the other hand, the core mission of the 504 Loan Program is to provide long-term fixed asset financing to small businesses to facilitate the creation of jobs and local economic development. The purpose of this proposed rulemaking is to reinvigorate these programs as vital tools for creating and preserving American jobs. SBA proposes to strip away regulatory restrictions that detract from the 504 Loan Program's core job creation mission as well as the 7(a) Loan Program's positive job creation impact on the American economy. The proposed changes would enhance job creation through increasing eligibility for loans under SBA's business loan programs, including its Microloan Program, and by modifying certain program participant requirements applicable to these two programs. The major changes that SBA is proposing include changes relating to affiliation principles, the personal resources test, the 9-month rule for the 504 Loan Program, and CDC operational and organizational requirements.

Timetable:

Action | Date | FR Cite
NPRM | 02/25/13 | 78 FR 12633
NPRM Comment Period End | 04/26/13
Final Rule | 07/00/13

Regulatory Flexibility Analysis Required: Yes.

Agency Contact: John P. Kelley, Senior Advisor to the Associate Administrator, Small Business Administration, 409 Third Street SW., Washington, DC 20416, Phone: 202 205-0067, Fax: 202 292-3844, Email: patrick.kelley@sba.gov.

RIN: 3245-AG04

263. Acquisition Process: Task and Delivery Order Contracts, Bundling, Consolidation

Legal Authority: Pub. L. 111-240; sec 1311; 1312; 1313; 1331

Abstract: The U.S. Small Business Administration (SBA) is issuing regulations that will establish guidance under which Federal agencies may set aside part of a multiple award contract for small business concerns, set aside orders placed against multiple award contracts for small business concerns, and reserve one or more awards for small business concerns under full and open competition for a multiple award contract. These regulations will apply to small businesses, including those small businesses eligible for SBA's socioeconomic programs. The regulations will also set forth a Governmentwide policy on bundling, which will address teams and joint ventures of small businesses and the requirement that each Federal agency must publish on its Web site the rationale for any bundled contract. In addition, the regulations will address contract consolidation and the limitations on the use of such consolidation in Federal procurement to include ensuring that the head of a Federal agency may not carry out a consolidated contract over $2 million unless the Senior Procurement Executive or Chief Acquisition Officer ensures that market research has been conducted and determines that the consolidation is necessary and justified.

Timetable:

Action | Date | FR Cite
NPRM | 05/16/12 | 77 FR 29130
NPRM Comment Period End | 07/16/12
Final Rule | 07/00/13

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG20

264. Small Business Subcontracting

Legal Authority: Pub. L. 111-240; sec 1321 and 1322; 1334

Abstract: These regulations address subcontracting compliance and the interrelationship between contracting offices, small business offices, and program offices relating to oversight and review activities. The regulation also addresses the statutory requirement that a large business prime contractor must represent that it will make good faith efforts to award subcontracts to small businesses at the same percentage as indicated in the subcontracting plan submitted as part of its proposal for a contract and that if the percentage is not met, the large business prime contractor must provide a written justification and explanation to the contracting officer. Finally, the regulation also addresses the statutory requirement that a prime contractor must notify the contracting officer in writing if it has paid a reduced price to a subcontractor for goods and services or if the payment to the subcontractor is more than 90 days past due.

Timetable:

Action | Date | FR Cite
NPRM | 10/05/11 | 76 FR 61626
NPRM Comment Period End | 12/05/11
NPRM Comment Period Reopened | 12/01/11 | 76 FR 74749
Second NPRM Comment Period End | 01/06/12
Final Rule | 07/00/13

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG22

265. Small Business Size and Status Integrity

Legal Authority: Pub. L. 111-240; sec 1341 and 1343

Abstract: These regulations address the intentional misrepresentations of small business status as a “presumption of loss against the Government.” In addition, the rule addresses the statutory requirement that no business may continue to certify itself as small on the System for Award Management (SAM) without first providing an annual certification.

Timetable:

Action | Date | FR Cite
NPRM | 10/07/11 | 76 FR 62313
NPRM Comment Period End | 11/07/11
NPRM Comment Period Extended | 11/08/11 | 76 FR 69154
NPRM Extended Comment Period End | 12/08/11
Final Rule | 07/00/13

Regulatory Flexibility Analysis Required: Yes.

Agency Contact: Dean R. Koppel, Assistant Director, Office of Policy and Research, Small Business Administration, 409 Third Street SW., Washington, DC 20416, Phone: 202 205-7322, Fax: 202 481-1540, Email: dean.koppel@sba.gov.

RIN: 3245-AG23

266. Small Business Size Standards for Utilities

Legal Authority: 15 U.S.C. 632(a)

Abstract: On July 19, 2012, the U.S. Small Business Administration (SBA) proposed to revise the small business size standards for nine industries in North American Industry Classification System (NAICS) Sector 22, Utilities. For industries involved in electric power generation, transmission and distribution, SBA proposed to replace the current size standard of 4 million megawatt hours in electric output with an employee based size standard of 500 employees. SBA also proposed to increase the small business size standards for three industries in NAICS Sector 22 that have receipt based size standards. As part of its effort to review all size standards as required by the Small Business Jobs Act of 2010, SBA evaluated all industries in NAICS Sector 22 that have either electric output based or receipts based size standards to determine whether the existing size standards should be retained or revised. The proposed rule is one of the rules that will examine industries grouped by NAICS sector. SBA applied its “Size Standards Methodology,” which is available on its Web site at http://www.sba.gov/size, to prepare the proposed rule. SBA expects to publish the final rule in the near future.

Timetable:

Action | Date | FR Cite
NPRM | 07/19/12 | 77 FR 42441
NPRM Comment Period End | 09/17/12 |
Final Rule | 10/00/13 |

Regulatory Flexibility Analysis Required: Yes.

Agency Contact: Dr. Khem Raj Sharma, Chief, Office of Size Standards, Small Business Administration, 409 Third Street SW., Washington, DC 20416, Phone: 202 205-7189, Fax: 202 205-6390, Email: khem.sharma@sba.gov.

RIN: 3245-AG25

267. Small Business Size Standards: Construction

Legal Authority: 15 U.S.C. 632(a)

Abstract: On July 18, 2012, the U.S. Small Business Administration (SBA) published a proposed rule to increase small business size standards for one industry and one sub-industry in North American Industry Classification System (NAICS) Sector 23, Construction. Specifically, SBA proposed to increase the size standard for NAICS 237210, Land Subdivision, from $7 million to $25 million and the size standard for Dredging and Surface Cleanup Activities, a sub-industry category (or an “exception”) under NAICS 237990, Other Heavy and Civil Engineering Construction, from $20 million to $30 million in average annual receipts. As part of its ongoing comprehensive size standards review, SBA evaluated all size standards in NAICS Sector 23 to determine whether they should be retained or revised. The proposed rule is one of the rules that examines size standards of industries grouped by NAICS Sector. SBA has applied its “Size Standards Methodology,” which is available on its Web site at http://www.sba.gov/size, to prepare the proposed rule. SBA expects to publish the final rule in the near future.

Timetable:

Action | Date | FR Cite
NPRM | 07/18/12 | 77 FR 42197
NPRM Comment Period End | 09/17/12 |
Final Rule | 10/00/13 |

Regulatory Flexibility Analysis Required: Yes.

Agency Contact: Khem Raj Sharma, Chief, Office of Size Standards, Small Business Administration, 409 Third Street SW., Washington, DC 20416, Phone: 202 205-6390, Fax: 202 205-6390.

RIN: 3245-AG37

SMALL BUSINESS ADMINISTRATION (SBA)

Completed Actions

268. Small Business Size Standards: Arts, Entertainment, and Recreation

Legal Authority: 15 U.S.C. 632(a)

Abstract: On July 18, 2012, the U.S. Small Business Administration (SBA) issued a proposed rule to increase the small business size standards for 17 industries in North American Industry Classification System (NAICS) Sector 71, Arts, Entertainment, and Recreation. As part of its ongoing comprehensive review of all size standards, SBA evaluated all size standards in NAICS Sector 71 to determine whether the existing size standards should be retained or revised. The proposed rule is one of the rules that will examine industries grouped by an NAICS Sector. SBA applied its “Size Standards Methodology,” which is available on its Web site at http://www.sba.gov/size, to prepare the proposed rule. SBA expects to publish the final rule in the near future.

Completed:

Reason | Date | FR Cite
Final Rule | 06/20/13 | 78 FR 37417
Final Rule Effective | 07/22/13 |

Regulatory Flexibility Analysis Required: Yes.

Agency Contact: Khem Raj Sharma, Phone: 202 205-6390, Fax: 202 205-6390.

RIN: 3245-AG36

269. Small Business Size Standards: Agriculture, Forestry, Fishing, and Hunting

Legal Authority: 15 U.S.C. 632(a)

Abstract: On September 11, 2012, the U.S. Small Business Administration (SBA) published a proposed rule to increase the small business size standards for 11 industries in North American Industry Classification System (NAICS) Sector 11, Agriculture, Forestry, Fishing and Hunting. As part of its ongoing comprehensive review of all small business size standards, SBA evaluated receipts based size standards for 16 industries and two sub-industries in NAICS Sector 11 to determine whether they should be retained or revised. SBA did not review size standards for 46 industries in NAICS Sector 11 that are currently set by statute at $750,000 in average annual receipts. SBA also did not review the 500-employee based size standard for NAICS 113310, Logging, but will review it in the near future with other employee based size standards. In developing the proposed size standards, SBA has applied its “Size Standards Methodology,” which is available on the Agency's Web site at http://www.sba.gov/size. SBA expects to publish the final rule in the near future.

Completed:

Reason | Date | FR Cite
Final Rule | 06/20/13 | 78 FR 37398
Final Rule Effective | 07/22/13 |

Regulatory Flexibility Analysis Required: Yes.

Agency Contact: Khem Raj Sharma, Phone: 202 205-7189, Fax: 202 205-6390, Email: khem.sharma@sba.gov.

RIN: 3245-AG43

270. Small Business Size Standards: Support Activities for Mining

Legal Authority: 15 U.S.C. 632(a)

Abstract: On December 6, 2012, the United States Small Business Administration (SBA) published a proposed rule to increase the small business size standards for three of the four industries in North American Industry Classification System (NAICS) Subsector 213, Support Activities for Mining, that are based on average annual receipts. As part of its ongoing comprehensive size standards review, SBA evaluated the four receipts based standards in NAICS Subsector 213 under NAICS Sector 21, Mining, Quarrying, and Oil and Gas Extraction, to determine whether the current size standards should be retained or revised. Within NAICS Sector 21, only NAICS Subsector 213 has receipts based size standards. Note the title of this rule was changed from “Small Business Size Standards: Mining, Quarrying, and Oil and Gas Extraction”. This title was based on the one for Sector 21 of the Small Business Size Standards by NAICS Industry. However, SBA later concluded that this title was a misnomer since this rule only covers the four revenue-based size standards under Subsector 213, Support Activities for Mining and not the entire Sector 21. The rest of the industries in that Sector have employee based size standards which SBA will review in the near future with other employee based size standards. In developing the proposed size standards, SBA applied its “Size Standards Methodology,” which is available on the Agency's Web site at http://www.sba.gov/size. SBA expects to publish the final rule in the near future.

Completed:

Reason | Date | FR Cite
NPRM | 12/06/12 | 77 FR 72766
Final Rule | 06/20/13 | 78 FR 37404
Final Rule Effective | 07/22/13 |

Regulatory Flexibility Analysis Required: Yes.

Agency Contact: Khem Raj Sharma, Phone: 202 205-7189, Fax: 202 205-6390, Email: khem.sharma@sba.gov.

RIN: 3245-AG44

271. Small Business Size Standards: Finance and Insurance; Management of Companies and Enterprises

Legal Authority: 15 U.S.C. 632(a)

Abstract: On September 11, 2012, the U.S. Small Business Administration (SBA) issued a proposed rule to increase the small business size standards for 37 industries in North American Industry Classification System (NAICS) Sector 52, Finance and Insurance, and for two industries in NAICS Sector 55, Management of Companies and Enterprises. In addition, SBA proposed to change the measure of size from average assets to average receipts for NAICS 522293, International Trade Financing. As part of its ongoing comprehensive size standards review, SBA evaluated all receipts-based and assets-based size standards in NAICS Sectors 52 and 55 to determine whether they should be retained or revised. In developing the proposed size standards, SBA relied on the methodology set forth in its “Size Standards Methodology,” which is available at www.sba.gov/size. SBA expects to publish the final rule in the near future.

Completed:

Reason | Date | FR Cite
Final Rule | 06/20/13 | 78 FR 37409
Final Rule Effective | 07/22/13 |

Regulatory Flexibility Analysis Required: Yes.

Agency Contact: Khem Raj Sharma, Phone: 202 205-7189, Fax: 202 205-6390, Email: khem.sharma@sba.gov.

RIN: 3245-AG45

272. Small Business Size Regulations, Small Business Innovation Research (SBIR) Program and Small Business Technology Transfer (STTR) Program

Legal Authority: 15 U.S.C. 632(a); Pub. L. 111-81, sec 5107

Abstract: SBA is amending its regulations as they relate to size and eligibility for the SBIR and STTR programs. The revised amendments implement provisions of the SBIR/STTR Reauthorization Act of 2011. The amendments address ownership, control and affilation for participants in these programs, including participants that are majority owned by multiple venture capital operating companies, private equity firms or hedge funds. The regulations also address whether the participant is owned by domestic or foreign business concerns.

Completed:

Reason | Date | FR Cite
Final Rule | 12/27/12 | 77 FR 76215
Final Rule Effective | 01/28/13 |

Regulatory Flexibility Analysis Required: Yes.

Agency Contact: Edsel M. Brown, Phone: 202 205-6450, Email: edsel.brown@sba.gov.

RIN: 3245-AG46

[FR Doc. 2013-17073 Filed 7-22-13; 8:45 am]

BILLING CODE 8025-01-P